DEPARTMENT OF EDUCATION

Proposed Priority; Technical Assistance on State Data Collection, Analysis, and Reporting—National IDEA Technical Assistance Center on Early Childhood Longitudinal Data Systems; CFDA Number 84.373Z

AGENCY: Office of Special Education and Rehabilitative Services, Department of Education.

ACTION: Notice.

SUMMARY: The Assistant Secretary for Special Education and Rehabilitative Services proposes a priority under the Technical Assistance on State Data Collection program. The Assistant Secretary may use this priority for competitions in fiscal year (FY) 2012 and later years. We take this action to focus attention on an identified national need to provide technical assistance (TA) to States to improve their capacity to meet the Individuals with Disabilities Education Act (IDEA) data collection, analysis, and reporting requirements.

We propose to assist States in developing or enhancing statewide early childhood longitudinal data systems, by which we mean data systems that include child-level data for infants, toddlers, and young children with disabilities (birth through age 5) served through early childhood programs under IDEA Part C and Part B preschool programs. These statewide early childhood longitudinal data systems would be part of a coordinated early learning data system, by which we mean data systems that vertically and horizontally link child, program, and workforce data elements related to children (birth through age 5). This TA will build States' capacity to report high-quality data to meet IDEA reporting requirements.

DATES: We must receive your comments on or before July 18, 2012.

ADDRESSES: Address all comments about this notice to Meredith Miceli, U.S. Department of Education, 400 Maryland Avenue SW., room 4069, Potomac Center Plaza, Washington, DC 20202-2600. If you prefer to send your comments by email, use the following address: meredith.miceli@ed.gov.

You must include the term “Data Collection Priority” in the subject line of your electronic message.

FOR FURTHER INFORMATION CONTACT: Meredith Miceli. Telephone: (202) 245-6028.

If you use a telecommunications device for the deaf (TDD) or a text telephone (TTY), call the Federal Relay Service (FRS), toll free, at 1-800-877-8339.

SUPPLEMENTARY INFORMATION: Invitation To Comment: We invite you to submit comments regarding this notice. To ensure that your comments have maximum effect in developing the notice of final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this notice in room 4069, 550 12th Street SW., Potomac Center Plaza, Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Technical Assistance on State Data Collection program is to improve the capacity of States to meet IDEA data collection and reporting requirements. Funding for the program is authorized under section 611(c)(1) of IDEA, which gives the Secretary the authority to reserve funds appropriated under Part B to provide TA activities authorized under section 616(i). Section 616(i) requires the Secretary to review the data collection and analysis capacity of States to ensure that data and information determined necessary for implementation of section 616 of IDEA are collected, analyzed, and accurately reported. It also requires the Secretary to provide TA, where needed, to improve the capacity of States to meet the data collection requirements under IDEA.

Program Authority: 20 U.S.C. 1411(c), 1416(i), and 1418(c).

PROPOSED PRIORITY:

This notice contains one proposed priority.

National IDEA Technical Assistance Center on Early Childhood Longitudinal Data Systems.

Background: States must provide an assurance that they will meet the Federal reporting requirements under the IDEA Part C and Part B preschool programs in order to receive these IDEA grant funds. IDEA reporting requirements include a State's submission of data as part of its State Performance Plan (SPP) and Annual Performance Report (APR) under section 616 of IDEA, as well as data required under section 618 of IDEA.

In the APR, each State must report to the Department on its progress in meeting the measurable and rigorous targets for each of the Part C indicators and Part B indicators.¹ Each State must report to the public, by posting on the State agency's Web site, data on the performance of each local program in meeting the targets under each indicator. In the APR, States must also provide both quantitative data under each of the indicators and qualitative information, such as an explanation of how the State's data reflect progress or lack of progress (i.e., “slippage”) in meeting the State's targets under each indicator, and an analysis of how the State's improvement activities ² address the factors that contributed to the State's progress or slippage in the data for each indicator. In the SPP, a State identifies and, where appropriate, revises its improvement activities based on its analysis of this qualitative and quantitative information.

¹ The following Web sites provide more information on the 616 SPP/APR Indicators: www.ed.gov/policy/speced/guid/idea/capr/index.html and www2.ed.gov/policy/speced/guid/idea/bapr/index.html.

² States are required to describe the improvement activities they implemented to improve performance for each indicator, including activities, timelines, and resources, in the Annual Performance Report under section 616 of IDEA. Source: Part C State Performance Plan (SPP) and Annual Performance Report (APR) Instruction Sheet. Available from: http://www2.ed.gov/policy/speced/guid/idea/capr/2012/index.html.

Additionally, under section 618 of IDEA, States are required to annually collect and report data on infants, toddlers, and children with disabilities. States provide data on the number of eligible children served (“child count”), educational environments, discipline, dispute resolution, and personnel employed to provide services for children with disabilities, including children from ages 3 through 5 receiving services under IDEA Part B. States must also collect and report child count, exiting, dispute resolution, and service settings data for infants and toddlers receiving services under IDEA Part C.³

³ The following Web sites provide more information on IDEA 618 data tables: www.ideadata.org/PartCForms.asp and www.ideadata.org/PartBForms.asp.

States, however, face significant practical challenges in successfully reporting to the Department and to the public the high-quality data required under the IDEA. The data States are required to collect and report in their IDEA Part B and Part C APRs include preschool and early intervention data that may be maintained by more than one entity, and each program needs information and data that are maintained by another program.

For example, to obtain accurate early childhood transition data to report under SPP/APR Indicators C8 and B12, which are included in Appendices A and B to this notice, sharing information between the IDEA Part C early intervention program and the IDEA Part B preschool program is required. Additionally, in order to analyze and report on the Part C child find ⁴ data under SPP/APR Indicators C5 and C6, which are included in Appendix B to this notice, the State must cross-validate its early intervention data with data from specific primary referral sources (e.g., the newborn hearing screening programs, maternal and child health or other programs that do not provide IDEA services) that may not be part of an IDEA early childhood data system. Even in situations where States are sharing data to meet IDEA reporting requirements, there are concerns about the quality of the data shared between agencies. In addition, appropriately sharing personally identifiable information between and among the various State agencies responsible for managing the data systems, while still ensuring compliance with the privacy protections under the Family Educational Rights and Privacy Act (FERPA) and IDEA Parts B and C, is a challenge for many States (Keller-Allen, 2009).⁵

⁴ For the purposes of this priority, “child find” is defined as “all children with disabilities residing in the State, including children with disabilities who are homeless children or are wards of the State and children with disabilities attending private schools, regardless of the severity of their disabilities, and who are in need of special education and related services, are identified, located, and evaluated and a practical method is developed and implemented to determine which children with disabilities are currently receiving needed special education and related services” (20 U.S.C. 1412(a)(3)(A)).

⁵ Keller-Allen, C. (April 2009). Using unique identifiers to promote data sharing between Part C and Part B. Retrieved August 24, 2010 from: www.projectforum.org/docs/UsingUniqueIdentifierstoPromoteDataSharingBtwnPartCandPartB.pdf.

States can address these challenges, in part, by coordinating their data systems to link and share certain child-level data vertically (i.e., across different age ranges) across programs serving children with disabilities at different age ranges over time (i.e., birth through age 2, age 3 through 5/preschool, age 6 through 21/school age).

States can also improve their IDEA data reporting by linking and sharing data horizontally (sharing data across programs for the same child) across various early learning and development programs ⁶ serving infants, toddlers, and young children with disabilities at a particular time (e.g., child care, home visiting programs, Head Start, Early Head Start, and publicly unded State preschool programs and services). Taking these steps can help States improve the quality (i.e., reliability and validity) of the qualitative and quantitative data they must report to meet IDEA reporting requirements. In developing such a data system, a State must also meet critical data management, governance, and requirements to protect the confidentiality of these infants, toddlers, and young children with disabilities and their families.

⁶ For the purposes of this priority, “early learning and development program” means “any (a) State-licensed or State-regulated program or provider, regardless of setting or funding source, that provides early care and education for children from birth to kindergarten entry, including, but not limited to, any program operated by a child care center or in a family child care home; (b) preschool program funded by the Federal Government or State or local educational agencies (including any IDEA-funded program); (c) Early Head Start and Head Start program; and (d) a non-relative child care provider who is not otherwise regulated by the State and who regularly cares for two or more unrelated children for a fee in a provider setting. A State should include in this definition other programs that may deliver early learning and development services in a child's home, such as the Maternal, Infant and Early Childhood Home Visiting; Early Head Start; and part C of IDEA.” 76 FR 53569 (August 26, 2011). Application for New Awards: Race to the Top—Early Learning Challenge. Available at: www.federalregister.gov/articles/2011/08/26/2011-21756/applications-for-new-awards-race-to-the-top-early-learning-challenge#p-122.

As previously noted, within a State, data about children with disabilities from birth through age 5 typically originate from multiple sources and are managed and stored within multiple organizations with different operating procedures. Therefore, in order to coordinate and report high-quality data to meet the IDEA reporting requirements, a State must implement a data governance plan. Many States, however, may not have sufficiently detailed governance plans for data on infants, toddlers, and children with disabilities.

Data governance provides a structure for a diverse group with shared responsibility for high-quality data to establish and implement policies and procedures to manage data and information (Privacy Technical Assistance Center, n.d.⁷) and evaluate and address data quality issues (Cheong & Chang, 2007; ⁸ Neely & Cook, 2011 ⁹). Examples of data quality issues related to the data that are collected on children with disabilities include timeliness of data submissions to the Department, accuracy of data elements being reported, and completeness of data submissions. Thus, a data governance plan would provide an organizing structure that would build shared understanding among agencies that collect such data about responsibilities, policies, and procedures for data quality management, and it would clarify expectations for data and information management including those for personnel who collect, store, validate, and use the data. Such a plan would also allow the State to meet its responsibilities to ensure that child-level data are maintained securely and that the State meets the confidentiality requirements under IDEA and FERPA and other applicable Federal, State, and local confidentiality requirements (Haug & Arlbjorn, 2011; ¹⁰ Neely & Cook, 2011).

⁷ Privacy Technical Assistance Center. Data Governance and Stewardship. Retrieved on April 17, 2012 from: http://www2.ed.gov/policy/gen/guid/ptac/pdf/issue-brief-data-governance-and-stewardship.pdf.

⁸ Cheoung, L.K. & Chang, V. (2007). The Need for Data Governance: A Case Study. ACIS 2007 Proceedings. Paper 100. http://aisel.aisnet.org/acis2007/100.

⁹ Neely, M.P., Cook, J.S. (2011). Fifteen Years of Data and Information Quality Literature: Developing a Research Agenda for Accounting. Journal of Information Systems, 25(1), pp. 79-108.

¹⁰ Haug, A. & Arlbjorn, J.S. (2011). Barriers to Master Data Quality. Journal of Enterprise Information Management, 24(3), pp. 288-303.

Under the priority we are proposing in this notice, the grantee would be required to assist States in meeting these challenges, and specifically to provide TA to States on the development and enhancement of statewide early childhood longitudinal data systems that link child-level data for children served under the IDEA that are collected through those programs providing IDEA services to those other programs that provide early childhood education, care, and health services to children served under the IDEA. These statewide early childhood longitudinal data systems would be part of a State's coordinated early learning data system, by which we mean a data system that vertically and horizontally links child, program, and workforce data related to children (birth through age 5).

Thus, such a system should horizontally link States' early childhood IDEA Part C and Part B preschool data to other early learning data systems to the extent that such systems collect data that are similar to the quantitative and qualitative information reported under IDEA. For example, data on the settings in which children receive services are collected not only by the State programs implementing IDEA, but also by child care, home visiting programs, Head Start, Early Head Start, and publicly funded State preschool programs.

A coordinated early learning data system should also vertically link a State's early childhood IDEA Part C and Part B preschool data to other statewide longitudinal data systems to the extent that such systems collect data on the quantitative and qualitative information reported under IDEA. For example, transition and child outcome information are collected and analyzed by State programs implementing the IDEA but are also found in other data systems of school-aged children, such as pre-kindergarten (P)-grade 12 systems, kindergarten (K)-grade 12 systems, P-grade 20 systems, and K-grade 20 systems.

The Race to the Top—Early Learning Challenge program ¹¹ and the Statewide Longitudinal Data System (SLDS) program ¹² identify the following as essential data elements for a coordinated early learning data system: ¹³ ¹⁴

¹¹ For additional information on the Race to the Top—Early Learning Challenge, please see: http://www2.ed.gov/programs/racetothetop-earlylearningchallenge/index.html.

¹² For additional information on the SLDS program, please see: http://nces.ed.gov/programs/slds/.

¹³ U.S. Department of Education (2011). Race to the Top—Early Learning Challenge Application for Initial Funding. Retrieved March 13, 2012 from: http://www2.ed.gov/programs/racetothetop-earlylearningchallenge/2011-412.doc.

¹⁴ U.S. Department of Education (2011). Request for Applications: Grants for Statewide, Longitudinal Data Systems. Retrieved March 13, 2012 from: http://ies.ed.gov/funding/pdf/2012_84372.pdf.

1. A unique statewide child identifier or another highly accurate, proven method to link data on that child, including Kindergarten Entry Assessment ¹⁵ data, to and from the Statewide Longitudinal Data System and the coordinated early learning data system (if applicable);

¹⁵ For the purposes of this priority, “kindergarten entry assessment” means “an assessment that: (a) Is administered to children during the first few months of their admission into kindergarten; (b) covers all Essential Domains of School Readiness; (c) is used in conformance with the recommendations of the National Research Council reports on early childhood; and (d) is valid and reliable for its intended purposes and for the target populations and aligned to the Early Learning and Development Standards. Results of the assessment should be used to inform efforts to close the school readiness gap at kindergarten entry and to inform instruction in the early elementary school grades. This assessment should not be used to prevent children's entry into kindergarten” (U.S. Department of Education, 2011, Race to the Top—Early Learning Challenge Application for Initial Funding, page 17).

2. A unique statewide Early Childhood Educator identifier;

3. A unique program site identifier;

4. Child and family demographic information;

5. Early Childhood Educator demographic information, including data on educational attainment and State credential or licenses held, as well as professional development information;

6. Program-level data on the program's structure, quality, child suspension and expulsion rates, staff retention, staff compensation, work environment, and all applicable data reported as part of the State's Tiered Quality Rating and Improvement System; ¹⁶ and

¹⁶ For the purposes of this priority, “Tiered Quality Rating and Improvement System” means “the system through which the State uses a set of progressively higher Program Standards to evaluate the quality of an Early Learning and Development Program and to support program improvement. A Tiered Quality Rating and Improvement System consists of four components: (a) Tiered Program Standards with multiple rating categories that clearly and meaningfully differentiate program quality levels; (b) monitoring to evaluate program quality based on the Program Standards; (c) supports to help programs meet progressively higher standards (e.g., through training, technical assistance, financial support); and (d) program quality ratings that are publically available; and includes a process for validating the system” (U.S. Department of Education, 2011, Race to the Top—Early Learning Challenge Application for Initial Funding, page 19).

7. Child-level program participation and attendance data.

Establishing coordinated early learning data systems that have these elements is important to improve the quality of data because these systems require States and other entities to standardize data definitions and submission procedures. Linking systems also offers opportunities for States to validate and analyze data across programs to improve the quality of the data States must report under the IDEA to both the Department and the public.

For example, if Head Start data were linked horizontally to data collected under the Part B preschool program, a State could validate the time the child is spending in the regular early childhood program for reporting on the child's educational environments and Indicator B6, which is included in Appendix A to this notice. A State could also link its early intervention data to its preschool data and its preschool data to its K-12 data in order to better interpret the State's data on preschool and early intervention outcomes and transitions (i.e., IDEA section 618 Exiting data, and Indicators C3, C8, B7, and B12, which are included in Appendices A and B to this notice). If a State wanted to validate its data on positive social-emotional skills reported in Indicator C3, it might vertically link its Early Intervention data to the State's Head Start data.

A statewide early childhood longitudinal data system that links to a statewide early childhood workforce system, which includes data on IDEA service providers' qualifications, could also allow States to improve the quality of the personnel data they submit to meet IDEA reporting requirements. By linking data on children receiving special education services in an IDEA Part B, preschool program to data on early childhood program providers and those providers' qualifications, a State could validate its data on the qualification status of special education teachers, paraprofessionals, and related services personnel who work with young children with disabilities served under IDEA.¹⁷

¹⁷ States are required to report on the number of special education teachers, paraprofessionals, and related services personnel by qualification status in the IDEA Personnel data collection.

States recognize the need to improve coordination in collecting, analyzing, and reporting their early childhood data. In their Federal fiscal year (FFY) 2009-10 APRs, a number of States identified the importance of horizontally and vertically linking or sharing their early childhood data among various programs.18 19 The States also identified as an improvement activity for Indicators C3 (early childhood outcome), C5 and C6 (child count), and B12 (early childhood transition), the importance of developing and implementing methods to share data across programs, such as IDEA Part C and Part B preschool programs, neonatal intensive care units, Child Abuse and Prevention Treatment Act programs, and Early Hearing Detection and Intervention programs. States also identified developing and expanding comprehensive data systems to capture, analyze, and report performance data as an improvement activity for Indicator C1 (timely service provision), which is included in Appendix B to this notice.

¹⁸ 2011 Part C Indicator Analysis Document. (2011). Available at www.nectac.org/~pdfs/partc/part-c_sppapr_11.pdf.

¹⁹ 2011 Part B Indicator Analysis Document. (2011). Available at www.nectac.org/~pdfs/sec619/part-b_sppapr_11.pdf.

The Federal government has provided support for States to develop and implement data systems that coordinate early learning and development data through the Statewide Longitudinal Data Systems program and the Race to the Top—Early Learning Challenge program. However, most statewide longitudinal education data systems do not yet include the data on infants, toddlers, and children with disabilities (birth through age 5) that are needed to meet the IDEA reporting requirements.

For the reasons described, to support States in the development and enhancement of statewide early childhood longitudinal data systems, the Office of Special Education Programs (OSEP) proposes a priority for funding the National IDEA Technical Assistance Center on Early Childhood Longitudinal Data Systems. The center would provide TA to States to help them horizontally link data, including child-level data, on the IDEA Part C and Part B preschool programs with data from other early learning and development programs (e.g., child care, home visiting programs, Head Start, Early Head Start, and publicly-funded State preschool programs and services) and vertically link these data to other statewide longitudinal education data systems, including those funded under the SLDS program grants (e.g., P-12 systems, K-12 systems, K-20 systems).

The TA would be focused on assisting States to improve their capacity to report high-quality data to meet their IDEA reporting requirements through the development or enhancement of a statewide early childhood longitudinal data system. The TA would include helping States develop appropriate data governance plans and ensure that the entry, sharing, and reporting of personally identifiable information into the data systems complies with the privacy protections under the applicable IDEA Part B, IDEA Part C, and FERPA requirements. Although this TA would focus on the data used to meet IDEA reporting requirements, we intend for this early childhood data system to be coordinated, and not conflict, with the States' ongoing work to build other statewide longitudinal education data systems, including those funded under the SLDS program grants (e.g., P-12 systems, K-12 systems, and K-20 systems).

In addition, this TA center may, but would not be required to, develop software or implement data services through advanced programing interfaces (APIs) that permit data from disparate statewide early childhood data systems, statewide systems for school-aged children (e.g., K-12 data systems, P-20 data systems), and any other early learning data systems to be linked and accessed from a single data dashboard. Any software or other technology developed through this grant would be required to be made available as open source and provided at no cost to States. In order to ensure that software or other technology developed through this grant is versatile enough to be interoperable with the different configurations of statewide data systems related to IDEA data collection and reporting requirements in each State, the grantee would be required to use the Common Education Data Standards.²⁰

²⁰ “The Common Education Data Standards is a specified set of the most commonly used education data elements to support the effective exchange of data within and across States, as students transition between educational sectors and levels, and for federal reporting.” National Center for Education Statistics. Common Education Data Standards. Retrieved February 8, 2012 from: http://nces.ed.gov/programs/ceds/. For more information, see https://ceds.ed.gov/Default.aspx.

Proposed Priority:

The purpose of this proposed priority is to fund a cooperative agreement to support the establishment and operation of a National IDEA Technical Assistance Center on Early Childhood Longitudinal Data Systems (Center). This Center would provide TA to States on the development and enhancement of statewide early childhood longitudinal data systems to improve the States' capacity to collect, analyze, and report high-quality data required under sections 616 and 618 of IDEA. This Center must provide TA to States on developing or enhancing statewide early childhood longitudinal data systems that horizontally link child-level data on infants, toddlers, and young children with disabilities (birth through age 5) from one data system to child-level data in other early learning data systems (including those developed with funding provided by the Department's Race to the Top—Early Learning Challenge program), vertically link these child-level data to statewide longitudinal data systems for school-aged children (including those developed with funding provided by the Department's SLDS program), and meet the data system capabilities and elements described under paragraph (b) in the Technical Assistance and Dissemination Activities section of this priority. These statewide early childhood longitudinal data systems should allow States to: (1) Accurately and efficiently respond to IDEA-related data submission requirements (e.g., IDEA sections 616 and 618 requirements); (2) continuously improve processes for defining, acquiring, and validating the data; and (3) comply with applicable Federal, State, and local privacy laws, including the requirements of FERPA and privacy requirements in IDEA. This TA must be focused on building the State's capacity to report high-quality data to meet IDEA reporting requirements and must be conducted in coordination with other statewide longitudinal data system work being conducted in the State.

To be considered for funding under this absolute priority, applicants must meet the application requirements contained in this priority. Any project funded under this priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web sites provide more information on logic models: www.researchutilization.org/matrix/logicmodel_resource3c.html and www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A plan for recruiting and selecting a minimum of 10 States to receive intensive TA on developing or enhancing their statewide early childhood longitudinal data systems to improve the States' capacity to collect and report high-quality data required under sections 616 and 618 of IDEA. This TA may include supporting each State in developing a statewide early childhood longitudinal data system that links to other statewide data systems (i.e., other statewide early learning data systems and statewide longitudinal education data systems) in order to accurately and efficiently respond to all of a State's IDEA-related data submission requirements for infants, toddlers, and young children (birth through age 5) with disabilities. The intensive TA may also include enhancing an existing statewide data system (e.g., SLDS) by including the child-level data on infants, toddlers, and young children (birth through age 5) with disabilities that are needed to meet the IDEA reporting requirements. To ensure that the Center provides TA to support States in overcoming the additional challenge of sharing early childhood data between State agencies (e.g., State Department of Health and State Department of Education), when selecting States for intensive TA, a preference must be given to States that have IDEA Part C lead agencies (LAs) that are not the State educational agency (SEA).

Note: The Center must obtain approval from OSEP on the final selection of intensive TA States.

(e) To prevent duplication of TA efforts around early childhood data systems, a plan for, and description of, how the Center will collaborate with the SLDS program (including SLDS TA efforts ²¹), the Race to the Top—Early Learning Challenge program, the Common Education Data Standards initiative, the Privacy Technical Assistance Center,²² and, as appropriate, other Federal programs that provide TA in the area of early childhood data (e.g., Comprehensive Centers program ²³);

²¹ More information on the SLDS TA efforts is available at http://nces.ed.gov/programs/slds/pdf/TechAssistance.pdf.

²² The Privacy Technical Assistance Center is one component of the Department's comprehensive privacy initiatives. It offers technical assistance to State education agencies, local education agencies, and institutions of higher education related to the Privacy, Security, and Confidentiality of student records. For the Privacy Technical Assistance Center Help Desk, email PrivacyTA@ed.gov or call, toll free, 855-249-3072. For more information, see http://www2.ed.gov/policy/gen/guid/ptac/index.html.

²³ The Comprehensive Center program “supports 21 comprehensive centers to help increase state capacity to assist districts and schools meet their student achievement goals. The 16 regional centers provide services primarily to State Education Agencies (SEAs) to enable them to assist school districts and schools, especially low performing schools. At a minimum, each regional center provides training and technical assistance in the implementation and administration of programs authorized under the Elementary and Secondary Education Act (ESEA) and the use of research-based information and strategies. The five content centers focus on specific areas, with one center in each of five areas: Assessment and accountability, instruction, teacher quality, innovation and improvement, and high schools. These centers supply much of the research-based information and products in the specific area that regional centers use when working with SEAs.” U.S. Department of Education. Comprehensive Centers Program. Retrieved April 17, 2012 from: http://www2.ed.gov/programs/newccp/index.html.

(f) A budget for a summative evaluation to be conducted by an independent third party;

(g) A budget for attendance at the following:

(1) A one and one-half day kick-off meeting to be held in Washington, DC, after receipt of the award, and an annual planning meeting held in Washington, DC, with the OSEP Project Officer and other relevant staff during each subsequent year of the project period.

Note: Within 30 days of the award a post-award teleconference must be held between the OSEP Project Officer and grantee's project director or other authorized representative.

(2) A three-day Project Directors' Conference in Washington, DC, during each year of the project period.

(3) A two-day Leveraging Resources Conference in Washington, DC, during each year of the project period.

(4) Two two-day trips annually to attend Department briefings, Department-sponsored conferences, and other meetings, as requested by OSEP; and

(h) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities.

(a) Conduct a survey of all 56 Part C LAs and 56 IDEA Part B preschool programs administered by SEAs in the first year to assess their capacity to collect, analyze, and report high-quality data required under sections 616 and 618 of IDEA and identify the policies and practices that facilitate or hinder a statewide early childhood longitudinal data system to link to other early learning data systems and the statewide longitudinal educational data system for school-aged children (e.g., SLDS). Additionally, review State information from sources such as SPPs and APRs to assess State data system and data quality needs for the 56 LAs that have IDEA Part C programs and 56 SEAs that have IDEA Part B preschool programs. The Center must analyze the information from the surveys, SPPs/APRs, and other sources, as appropriate, and prepare papers that summarize the findings that can be disseminated according to a dissemination plan described in paragraph (f) of the Technical Assistance and Dissemination Activities section of this priority. These findings must be used in the selection of States for intensive TA.

(b) Using the findings from the survey described in paragraph (a), identify a minimum of four States to partner with to develop a statewide early childhood longitudinal data system framework (see paragraph (c)). This framework will be a TA resource for other States trying to develop or enhance statewide early childhood longitudinal data systems. Each partnering State must have commitments from its IDEA Part C early intervention and Part B preschool programs to participate in the activities of the Center. Additionally, the partnering States must be a combination of States with Department of Education LAs and non-Department of Education LAs (e.g., State Departments of Health, State Departments of Developmental Services). Factors for consideration in selecting these States could include the demographic and geographic characteristics of the State, the history of data system development in the State, and the collection and analysis of high-quality data required under sections 616 and 618 of IDEA. There may be overlap between these partnering States and those States selected to receive intensive TA. The Center must obtain approval from OSEP on the final selection of partnering States.

Note: To fulfill the requirements of paragraph (b) of the Application Requirements section of this priority, applicants must describe the methods and criteria they propose to use to recruit and select the four partnering States.

(c) Within the first year of the project period, partner with the States identified in paragraph (b) of this section to develop, implement, and evaluate a statewide early childhood longitudinal data system framework for IDEA Part C early intervention and Part B preschool programs. In developing this framework, the Center must work with the partner States to identify, describe, and document the components and processes needed to develop or enhance a statewide early childhood longitudinal data system that provides data necessary to accurately and efficiently respond to reporting requirements under sections 616 and 618 of IDEA and addresses the data system requirements and capabilities listed under paragraph (b) of the Technical Assistance and Dissemination Activities section of this priority. Through this work, the Center must develop guidance and exemplar tools and processes that any State can use to develop or enhance and implement a statewide early childhood longitudinal data system framework within its unique setting.

(d) Develop documents and resources on best practices and lessons learned that can be used to improve States' capacity to develop or enhance their statewide early childhood longitudinal data systems for the purposes of collecting high-quality data required under sections 616 and 618 of IDEA.

Technical Assistance and Dissemination Activities.

(a) Provide intensive TA to a minimum of 10 States to develop and implement a project management and data governance plan with the goal of a fully implemented statewide early childhood longitudinal data system, as described in paragraph (b) of this section. The intensive TA will be based on the statewide early childhood longitudinal data system framework described in paragraph (b) of the Knowledge Development Activities section of this priority.

Note: To fulfill the requirements in paragraph (a) in the Technical Assistance and Dissemination Activities section of this priority, applicants must describe the methods and criteria they will use to recruit and select States. The Center must obtain approval from OSEP on the final selection of intensive TA States.

(b) The statewide early childhood longitudinal data system must meet the following requirements:

(1) Have the following specific data system capabilities:

(i) Enable the State staff to efficiently respond to all IDEA-related data submission requirements (e.g., sections 616 and 618 data) with accurate and valid IDEA data by—

(A) Improving the quality of IDEA data related to child find, child count, settings, and educational environments data; and Indicators C2, C5, C6, and B6, which are included in Appendices A and B to this notice, by linking early childhood IDEA Part C and Part B preschool child-level data horizontally to other statewide early learning data systems when available (e.g., child care, home visiting programs, Head Start, Early Head Start, and publicly-funded State preschool programs and services);

(B) Improving the quality of the IDEA data related to early childhood and preschool outcomes; and Indicators C3, C8, B7, and B12 by linking early childhood IDEA Part C and Part B preschool child-level data vertically to other statewide longitudinal education data systems, including those funded under the Department's SLDS grants (e.g., P-12 systems, K-12 systems, P-20 systems, and K-20 systems);

(C) Improving the quality of the IDEA personnel data by linking child-level early childhood IDEA Part C and Part B preschool data with early intervention and preschool service providers so that an individual child may be matched with the particular providers primarily responsible for providing services to that child; and

(D) Improving the quality of the data about personnel providing services under IDEA Part B by linking early intervention and preschool service providers with data on their qualifications, certification, and preparation programs, including the institutions at which providers received their training;

(ii) Enable the State to improve the accuracy of the IDEA data through validity and reliability checks (e.g., data verification) and to provide access to the information needed to analyze and explain progress or slippage in the Parts B and C indicators;

(iii) Enable the State to examine progress in the implementation of IDEA (e.g., improving transitions from Part C to Part B IDEA services) and the outcomes (e.g., social-emotional skills, the use of appropriate behaviors to meet needs, and the acquisition and use of knowledge and skills) over time of infants, toddlers, and young children receiving services under IDEA and ensure data are easily generated for analysis and decision-making, including timely reporting to various IDEA Part C and preschool service providers across the State on the progress of infants, toddlers, and young children receiving services under IDEA; and

(iv) Ensure the quality (i.e., validity and reliability) of all data.

(2) In order to improve the State's capacity to collect and analyze high-quality data, have the following data system elements:

(i) A unique statewide child identifier accepted by, and aligned with, the State's P-20/P-12 unique identifier that does not permit a child to be individually identified by users of the system (except as allowed by Federal and State law).

(ii) An early intervention and preschool service provider identifier system with the ability to match early intervention and preschool service providers to children;

(iii) Child-level enrollment, demographic, and program participation data.

(iv) Child-level data on the identification of the child under IDEA (including data on the timeliness of the child's evaluation and assessment) and services identified as needed and received, including timeliness of services and service settings.

(v) Child and family outcome ²⁴ data.

²⁴ An outcome is formed by the impact that services and supports have on the functioning of children and families. Early Childhood Outcome Center. Outcomes 101: ECO Q&A. Available at: www.fpg.unc.edu/~eco/pages/faqs_view_item.cfm?id=7. For further information on early childhood child and family outcomes, see the Early Childhood Outcomes (ECO) Center Web site (www.fpg.unc.edu/~eco/index.cfm).

(vi) Child-level data about the points at which children start and stop receiving early intervention services or preschool special education services (including reasons for exiting).

(vii) Child-level data about the extent to which children receive timely transition planning to support their movement to preschool and other appropriate community services by their third birthday.

(viii) A State data audit system to assess data quality (i.e., reliability and validity).

(3) Have a data system interoperability plan that—

(i) Allows for linking the statewide early childhood longitudinal data systems to other statewide longitudinal education data systems and other statewide early learning data systems; and

(ii) Complies with applicable Federal, State, and local privacy laws, including the requirements of FERPA and the privacy requirements in IDEA.

(c) Develop and coordinate a national TA network comprised of a cadre of experts that the Center will use to provide TA to States to assist them in developing or enhancing statewide early childhood longitudinal data systems to improve States' capacity to collect and report high-quality data required under sections 616 and 618 of IDEA, which may include the development of open source data system software that addresses the unique needs of each State. General TA will be provided to all States and intensive TA will be provided to a minimum of 10 States.

(d) Provide a continuum of general TA and dissemination activities (e.g., managing Web sites, listservs, and communities of practice, and holding conferences and training institutes) on best practices that promote the efficient collection of accurate and valid data required under sections 616 and 618 of IDEA to improve the educational results and functional outcomes of all children with disabilities.

(e) Maintain a Web site that meets government or industry-recognized standards for accessibility and that links to the Web site operated by the Technical Assistance Coordination Center (TACC).²⁵

²⁵ For more information regarding the TACC products and services database, please see: www.tadnet.org.

(f) Prepare and disseminate reports, documents, and other materials on statewide early childhood longitudinal data systems, and related topics as requested by OSEP for specific audiences including IDEA Part C LAs, SEAs, policymakers, local educational agencies, service providers, and teachers. In consultation with the OSEP Project Officer, make selected reports, documents, and other materials available for Part C LAs, SEAs, policymakers, local educational agencies, service providers, and teachers in both English and Spanish.

(g) Develop materials and guidance for States and provide targeted TA related to the performance and compliance indicator(s) on their APRs and SPPs, as requested by OSEP.

Leadership and Coordination Activities.

(a) Establish and maintain an advisory committee to review the activities and outcomes of the Center and provide programmatic support and advice throughout the project period. At a minimum, the advisory committee must meet annually in Washington, DC, and consist of representatives of IDEA Part C LAs, representatives of SEAs, individuals with disabilities, other TA providers, parents of individuals with disabilities, data system experts, representatives of other early learning and development programs, representatives of other Federal offices working to improve State data systems, and software developers with expertise in statewide longitudinal data systems and interoperability. The Center must submit the names of proposed members of the advisory committee to OSEP for approval within eight weeks after receipt of the award.

(b) Communicate and collaborate, on an ongoing basis, with OSEP-funded projects and other relevant Federal-funded projects, including the SLDS program, SLDS TA efforts,²⁶ the Race to the Top—Early Learning Challenge program, the Common Education Data Standards initiative,²⁷ the Privacy Technical Assistance Center, and, as appropriate, other Federal programs that provide TA in the area of early childhood data (e.g., Comprehensive Centers program). This collaboration could include the joint development of products, the coordination of TA services, and the planning and carrying out of TA meetings and events.

²⁶ More information on the SLDS TA efforts is available at http://nces.ed.gov/programs/slds/pdf/TechAssistance.pdf.

²⁷ “The Common Education Data Standards is a specified set of the most commonly used education data elements to support the effective exchange of data within and across States, as students transition between educational sectors and levels, and for federal reporting.” National Center for Education Statistics. Common Education Data Standards. Retrieved February 8, 2012 from: http://nces.ed.gov/programs/ceds/. For more information, see http://ceds.ed.gov/Default.aspx.

(c) Participate in, organize, or facilitate communities of practice if they align with the needs of the project's target audience. Communities of practice should align with the project's objectives to support discussions and collaboration among key stakeholders. The following Web site provides more information on communities of practice: www.tadnet.org/communities.

(d) Prior to developing any new product, submit a proposal for the product to the TACC database for approval from the OSEP Project Officer. The development of new products should be consistent with the product definition and guidelines posted on the TACC Web site (www.tadnet.org).

(e) Contribute, on an ongoing basis, updated information on the Center's approved and finalized products and services to a database at the TACC.

(f) Coordinate with the National Dissemination Center for Individuals with Disabilities to develop an efficient and high-quality dissemination strategy that reaches broad audiences. The Center must report to the OSEP Project Officer the outcomes of these coordination efforts.

(g) Maintain ongoing communication with the OSEP Project Officer through monthly phone conversations and email communication.

Fourth and Fifth Years of the Project:

In deciding whether to continue funding the Center for the fourth and fifth years, the Secretary will consider the requirements of 34 CFR 75.253(a), and in addition—

(a) The recommendation of a review team consisting of experts selected by the Secretary. This review will be conducted during a one-day intensive meeting in Washington, DC, that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products have contributed to changed practice and improved the States' capacity to collect and report high-quality data required under sections 616 and 618 of IDEA by developing and enhancing of statewide early childhood longitudinal data systems.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities subject to meeting applicable rulemaking requirements.

Note: This notice does not solicit applications. In any year in which we choose to use this priority, we invite applications through a notice in the Federal Register.

Executive Orders 12866 and 13563:

Under Executive Order 12866, the Secretary must determine whether this regulatory action is “significant” and, therefore, subject to the requirements of the Executive Order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive Order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are proposing this priority only on a reasoned determination that its benefits justify its costs. In choosing among alternative regulatory approaches, we selected those approaches that maximize net benefits. Based on the analysis that follows, the Department believes that these regulations are consistent with the principles in Executive Order 13563.

We also have determined that this regulatory action would not unduly interfere with State, local, and Tribal governments in the exercise of their governmental functions.

In accordance with both Executive Orders, the Department has assessed the potential costs and benefits of this regulatory action. The potential costs associated with this regulatory action are those resulting from statutory requirements and those we have determined as necessary for administering the Department's programs and activities.

Intergovernmental Review: This program is subject to Executive Order 12372 and the regulations in 34 CFR part 79. One of the objectives of the Executive order is to foster an intergovernmental partnership and a strengthened federalism. The Executive Order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 30, 2012.
Alexa Posny,
Assistant Secretary for Special Education and Rehabilitative Services.

Appendix A—IDEA Part B SPP/APR Indicators

The Individuals with Disabilities Education Act (IDEA) reporting requirements include a State's submission of data as part of its State Performance Plan (SPP) and Annual Performance Report (APR) under section 616 of IDEA. In the APR, each State must report to the Department on its progress in meeting the measurable and rigorous targets for each of the following Part B indicators:

1. Percent of youth with individualized education programs (IEPs) graduating from high school with a regular diploma.

2. Percent of youth with IEPs dropping out of high school.

3. Participation and performance of children with IEPs on statewide assessments:

A. Percent of the districts with a disability subgroup that meets the State's minimum “n” size that meet the State's adequate yearly progress (AYP) targets for the disability subgroup;

B. Participation rate for children with IEPs; and

C. Proficiency rate for children with IEPs against grade level, modified and alternate academic achievement standards.

4. Rates of suspension and expulsion:

A. Percent of districts that have a significant discrepancy in the rate of suspensions and expulsions of greater than 10 days in a school year for children with IEPs; and

B. Percent of districts that have: (a) A significant discrepancy, by race or ethnicity, in the rate of suspensions and expulsions of greater than 10 days in a school year for children with IEPs; and (b) policies, procedures or practices that contribute to the significant discrepancy and do not comply with requirements relating to the development and implementation of IEPs, the use of positive behavioral interventions and supports, and procedural safeguards.

5. Percent of children with IEPs aged 6 through 21 served:

A. Inside the regular class 80 percent or more of the day;

B. Inside the regular class less than 40 percent of the day; and

C. In separate schools, residential facilities, or homebound/hospital placements.

6. Percent of children aged 3 through 5 with IEPs attending a:

A. Regular early childhood program and receiving the majority of special education and related services in the regular early childhood program; and

B. Separate special education class, separate school or residential facility.

7. Percent of preschool children aged 3 through 5 with IEPs who demonstrate improved:

A. Positive social-emotional skills (including social relationships);

B. Acquisition and use of knowledge and skills (including early language/communication and early literacy); and

C. Use of appropriate behaviors to meet their needs.

8. Percent of parents with a child receiving special education services who report that schools facilitated parent involvement as a means of improving services and results for children with disabilities.

9. Percent of districts with disproportionate representation of racial and ethnic groups in special education and related services that is the result of inappropriate identification.

10. Percent of districts with disproportionate representation of racial and ethnic groups in specific disability categories that is the result of inappropriate identification.

11. Percent of children who were evaluated within 60 days of receiving parental consent for initial evaluation or, if the State establishes a timeframe within which the evaluation must be conducted, within that timeframe.

12. Percent of children referred by Part C prior to age 3, who are found eligible for Part B, and who have an IEP developed and implemented by their third birthdays.

13. Percent of youth with IEPs aged 16 and above with an IEP that includes appropriate measurable postsecondary goals that are annually updated and based upon an age appropriate transition assessment, transition services, including courses of study, that will reasonably enable the student to meet those postsecondary goals, and annual IEP goals related to the student's transition services needs. There also must be evidence that the student was invited to the IEP Team meeting where transition services are to be discussed and evidence that, if appropriate, a representative of any participating agency was invited to the IEP Team meeting with the prior consent of the parent or student who has reached the age of majority.

14. Percent of youth who are no longer in secondary school, had IEPs in effect at the time they left school, and were:

A. Enrolled in higher education within one year of leaving high school.

B. Enrolled in higher education or competitively employed within one year of leaving high school.

C. Enrolled in higher education or in some other postsecondary education or training program; or competitively employed or in some other employment within one year of leaving high school.

15. General supervision system (including monitoring, complaints, hearings, etc.) identifies and corrects noncompliance as soon as possible but in no case later than one year from identification.

16. Percent of signed written complaints with reports issued that were resolved within 60-day timeline or a timeline extended for exceptional circumstances with respect to a particular complaint, or because the parent (or individual or organization) and the public agency agree to extend the time to engage in mediation or other alternative means of dispute resolution, if available in the State.

17. Percent of adjudicated due process hearing requests that were adjudicated within the 45-day timeline or a timeline that is properly extended by the hearing officer at the request of either party or in the case of an expedited hearing, within the required timelines.

18. Percent of hearing requests that went to resolution sessions that were resolved through resolution session settlement agreements.

19. Percent of mediations held that resulted in mediation agreements.

20. State reported data (618 and State Performance Plan and Annual Performance Report) are timely and accurate.

Appendix B—IDEA Part C SPP/APR Indicators

The Individuals with Disabilities Education Act (IDEA) reporting requirements include a State's submission of data as part of its State Performance Plan (SPP) and Annual Performance Report (APR) under section 616 of IDEA. In the APR, each State must report to the Department on its progress in meeting the measurable and rigorous targets for each of the following Part C indicators:

1. Percent of infants and toddlers with individualized family service plans (IFSPs) who receive the early intervention services on their IFSPs in a timely manner.

2. Percent of infants and toddlers with IFSPs who primarily receive early intervention services in the home or community-based settings.

3. Percent of infants and toddlers with IFSPs who demonstrate improved:

A. Positive social-emotional skills (including social relationships);

B. Acquisition and use of knowledge and skills (including early language/communication); and

C. Use of appropriate behaviors to meet their needs.

4. Percent of families participating in Part C who report that early intervention services have helped the family:

A. Know their rights;

B. Effectively communicate their children's needs; and

C. Help their children develop and learn.

5. Percent of infants and toddlers birth to 1 with IFSPs compared to national data.

6. Percent of infants and toddlers birth to 3 with IFSPs compared to national data.

7. Percent of eligible infants and toddlers with IFSPs for whom an initial evaluation and initial assessment and an initial IFSP meeting were conducted within Part C's 45-day timeline.

8. The percentage of toddlers with disabilities exiting Part C with timely transition planning for whom the Lead Agency has:

A. Developed an IFSP with transition steps and services at least 90 days, and at the discretion of all parties, not more than nine months, prior to the toddler's third birthday;

B. Notified (consistent with any opt-out policy adopted by the State) the SEA and the LEA where the toddler resides at least 90 days prior to the toddler's third birthday for toddlers potentially eligible for Part B preschool services; and

C. Conducted the transition conference held with the approval of the family at least 90 days, and at the discretion of all parties, not more than nine months, prior to the toddler's third birthday for toddlers potentially eligible for Part B preschool services.

9. General supervision system (including monitoring, complaints, hearings, etc.) identifies and corrects noncompliance as soon as possible but in no case later than one year from identification.

10. Percent of signed written complaints with reports issued that were resolved within 60-day timeline or a timeline extended for exceptional circumstances with respect to a particular complaint, or because the parent (or individual or organization) and the public agency agree to extend the time to engage in mediation or other alternative means of dispute resolution, if available in the State.

11. Percent of fully adjudicated due process hearing requests that were fully adjudicated within the applicable timeline or a timeline that is properly extended by the hearing officer at the request of either party.

12. Percent of hearing requests that went to resolution sessions that were resolved through resolution session settlement agreements (applicable if Part B due process procedures are adopted).

13. Percent of mediations held that resulted in mediation agreements.

14. State reported data (618 and State Performance Plan and Annual Performance Report) are timely and accurate.

[FR Doc. 2012-10831 Filed 5-3-12; 8:45 am]

BILLING CODE 4000-01-P